DEPARTMENT OF TRANSPORTATION

National Highway Traffic Safety Administration

49 CFR Parts 574 and 579

[Docket No. NHTSA-2014-0084]

RIN 2127-AL54

Tire Identification and Recordkeeping

AGENCY: National Highway Traffic Safety Administration (NHTSA), Department of Transportation

ACTION: Final rule.

SUMMARY: The tire identification number (TIN), which must appear on virtually all new and retreaded motor vehicle tires sold in the United States, plays an important role in identifying which tires are subject to recall and remedy campaigns for safety defects and noncompliances. This final rule makes two amendments to the TIN. First, because NHTSA has run out of two-symbol codes to identify new tire plants, NHTSA is expanding the first portion of the TIN, previously known as the manufacturer identifier, but more commonly referred to as a “plant code,” from two symbols to three for manufacturers of new tires. This amendment substantially increases the number of unique combinations of characters that can be used to identify individual manufacturers of new tires. Second, NHTSA is standardizing the length of the tire identification number to eliminate confusion that could arise from the variable length of tire identification numbers. This final rule standardizes the length of the TIN at 13 symbols for new tires and 7 symbols for retreaded tires, making it easier to identify a TIN from which a symbol is missing.

DATES: This final rule is effective on April 13, 2015.

Petitions for reconsideration: Petitions for reconsideration of this final rule must be received by May 28, 2015.

ADDRESSES: Petitions for reconsideration of this final rule must refer to the docket number set forth above and be submitted to the Administrator, National Highway Traffic Safety Administration, 1200 New Jersey Ave. SE., Washington, DC 20590.

FOR FURTHER INFORMATION CONTACT: For technical issues, you may contact Chris Wiacek, Office of Crash Avoidance Standards, by telephone at (202) 366-4801. For legal issues, you may contact David Jasinski, Office of the Chief Counsel, by telephone at (202) 366-2992, and by fax at (202) 366-3820. You may send mail to both of these officials at the National Highway Traffic Safety Administration, 1200 New Jersey Avenue SE., Washington, DC 20590.

SUPPLEMENTARY INFORMATION:

I. Background

In January 1971, the agency established a requirement in 49 CFR part 574 for a tire identification number (TIN) that must be labeled on one sidewall of each tire that is newly manufactured or retreaded.¹ The purpose of the TIN is to facilitate notification of purchasers of defective or noncompliant tires. Furthermore, the information contained in the TIN may be used by consumers to obtain information about the tire such as the actual manufacturer of the tire (in the case of a tire sold under a different brand) and the date of manufacture. Part 574 also provides for the registration of tires, including the collection of the TIN and the contact information of purchasers of tires, to enable manufacturers to notify tire owners of recalls.

¹ 36 FR 1196 (Jan. 26, 1971).

From its adoption in 1971, the TIN has consisted of up to four groups of symbols. The first group of symbols identifies the manufacturer of the tire. Each individual tire plant has its own identifier; thus, one tire manufacturer may have multiple codes. Although part 574 has referred to this grouping as the manufacturer's identification mark, it may also be known informally as a “plant code.” For new tires, this code consists of two symbols, and for retreaded tires, the code consists of three symbols. This plant code is assigned to new manufacturers and retreaders when they contact NHTSA and provide contact information and information about what types of tires they are producing.

The second and third groupings provide information about the tire itself. The second grouping is up to two characters and identifies the tire size. Although the original TIN requirement had a list of tire sizes and two-symbol codes, the agency has since left it to manufacturers to determine their own codes and provide decoding information to NHTSA upon request. This change allowed manufacturers to create new tire sizes without NHTSA first having to modify its regulations to provide a tire size code.

The third grouping may be used at the manufacturer's option to provide any other significant characteristics of the tire. Except for cases in which a tire is manufactured for a brand name owner, the third grouping is not required. As with the second grouping, a manufacturer must maintain information regarding the code used and provide it to NHTSA upon request.

The fourth and final grouping is the date code, which identifies the week and year during which the tire was manufactured. Although this code was originally three symbols, it has been expanded to four symbols. The first two symbols have always represented the week of manufacture. For example, “01” signifies that the tire was manufactured during the first full week of the year, “02” signifies that the tire was manufactured during the second full week of the year, and so on. The third and fourth symbols (originally only one symbol) must be the last two digits of the year of manufacture.

The TIN is required to be marked on at least one sidewall of each tire that is manufactured or retreaded. Manufacturers must use one of 30 alphanumeric symbols in the TIN. Certain letters such as G, I, O, Q, S, and Z are not allowed to be used because of the potential difficulty differentiating one symbol from another (for example, the number 5 and the letter S).

Generally, the TIN must be molded into or onto one sidewall of the tire. However, Federal Motor Vehicle Safety Standard (FMVSS) No. 139, which applies to radial tires for vehicles under 10,000 pounds GVWR, has an additional requirement that the other sidewall be labeled with either a full or partial TIN. A partial TIN excludes the date code and may also exclude any optional code, such as the third grouping of the TIN.

II. July 2014 Notice of Proposed Rulemaking

On July 24, 2014, NHTSA published in the Federal Register a notice of proposed rulemaking (NPRM) proposing two amendments to the TIN. First, because NHTSA was running out of two-symbol codes to identify new tire plants, NHTSA proposed to expand the plant code, from two symbols to three for manufacturers of new tires. Second, NHTSA proposed to standardize the length of the TIN 13 symbols for new tires and 7 symbols for retreaded tires.

We received 13 comments in response to the July 2014 NPRM. Oyatullohi Maddud, Tire Rack, the National Transportation Safety Board (NTSB), Specialty Tires of America (Specialty), Gillespie Automotive Safety Services (GASS), Kojin Kitao, the Japan Automobile Tyre Manufacturers Association (JATMA), Safety Research and Strategies (SRS), the Rubber Manufacturers Association (RMA), Zhongce Rubber Group Co. (Zhongce), the Government of Thailand (Thailand), the Tire and Rubber Association of Canada, and the Ministry of Trade, Industry, and Energy of the Republic of Korea (Korea). The comments are addressed in the following sections.

RMA also requested an extension of the comment period in order to gather additional information regarding the cost of converting existing molds to three-symbol plant codes and 13-symbol TINs. We agree with RMA's general assertion that additional time would be necessary in order for them to obtain this information. However, the agency is faced with the exhaustion of two-symbol plant codes and must begin issuing three-symbol plant codes immediately in order to allow new plants to open. In order to issue three-symbol plant codes immediately, RMA's petition to extend the comment period is denied. However, we believe that our approach in this final rule, in response to RMA's and others' comments, mitigates the need for extra time to respond to the NPRM.

III. Three-Symbol Plant Code

NHTSA, through its Office of Vehicle Safety Compliance, issues new tire and retreaded tire plant codes to manufacturers when they apply for them. For new tire manufacturers, who have a two-symbol code, the entire supply of 900 plant codes has been depleted.

In order to assign new plant codes, the agency has found it necessary to reissue previously issued, but currently unused plant codes. This shortage has arisen because of the increase over time in the number of tire manufacturers. This increase is projected to continue. However, a recent increase in the number of new plant code applications has completely depleted the supply of previously issued, but currently unused, plant codes. Without taking further action, the agency would be forced to refuse to assign new plant codes, which would make it impossible for new manufacturers to enter the tire market, or to assign identical plant codes to multiple manufacturers, which has the potential for substantial confusion and could impair tire recalls.

To enable the agency to issue new plant codes, the agency proposed to change the two-symbol plant code to a three-symbol plant code. We believe that this is the best long-term solution to the lack of supply of new manufacturer plant codes.

Oyatullohi Maddud, Tire Rack, GASS, RMA, Zhongce and Thailand agreed that NHTSA should begin issuing three-symbol plant codes to new tire manufacturers immediately upon running out of two-symbol codes.

NHTSA has run out of two-symbol plant codes. Therefore, it is necessary to issue this final rule to allow the issuance of three-symbol plant codes to new tire manufacturers. We are adopting the three-symbol plant code as proposed. For existing manufacturers with two-symbol plant codes, the agency will issue new three-symbol plant codes in place of each two-symbol plant code. For nearly all manufacturers, the agency will assign a “1” symbol in front of each existing two-symbol plant code.² For example, a manufacturer using two-symbol code “AB” will likely be assigned the three-symbol code “1AB”.

² NHTSA will directly contact any manufacturer whose three-symbol plant code is something other than a “1” in front of its existing two-symbol code.

IV. Standardizing TIN Length

The length of a TIN is not currently standardized. The second and third groupings of the TIN are required to contain no more than two and four symbols, respectively. Thus, the total length of these two groupings may be between zero and six symbols, depending on whether the tire is new or retreaded, and also on decisions by the manufacturer regarding the inclusion of optional codes. The third grouping is optional for all but non-pneumatic tire manufacturers, non-pneumatic tire assembly manufacturers, and tires manufactured for a brand name owner. Based on all of the variations in TIN length allowed, a full TIN for new tires may be anywhere between 6 and 12 symbols (which would go up to 13 after NHTSA adopts a three-symbol plant code).

The nonstandard length of the TIN becomes more complicated by the TIN marking requirements in FMVSS No. 139. As mentioned above, FMVSS No. 139 requires a full TIN to be marked on one side of the tire and either a full TIN or a partial TIN on the other side of the tire. A partial TIN excludes the four-symbol date code and any optional code. Thus, a partial TIN may be as long as eight symbols (if a two-symbol size code is used and a four-symbol third grouping is used).

Because both a full TIN and partial TIN could potentially be eight symbols in length, it may not always be clear whether an eight-symbol TIN obtained from one side of a tire meeting the requirements of FMVSS No. 139 is a full TIN or a partial TIN. The last four symbols in a full TIN representing the week and year of manufacture are always numeric. Nevertheless, we do not expect that everyone who records TINs for purposes such as crash reports or consumer complaints is likely to know the requirements for the various groupings of the TIN.

The July 2014 NPRM proposed to standardize the length of a TIN for all tire manufacturers using the three-symbol plant code at 7 symbols for retreaded tires and 13 symbols for new tires. We believed that this would prevent any confusion regarding whether a TIN is a complete TIN or a partial TIN. The proposal allowed manufacturers that have previously been assigned a two-symbol plant code to continue to use the existing TIN grouping requirements until they begin using a three-symbol plant code. We expected that manufacturers to begin using both the three-symbol plant code and the 13-symbol TIN at the same time.

We received comments from JATMA, RMA, Thailand, and the Tire and Rubber Association of Canada regarding the length of the TIN. Tire Rack supported adopting a standardized-length TIN. The other commenters cited the development of a global technical regulation (GTR) on light vehicle tires. The length of the TIN in the adopted GTR is specified as 15 symbols, including an 8-symbol manufacturer code. The commenters were concerned that the 8-symbol manufacturer code in the GTR is different than the 6-symbol code specified in the NPRM. Zhongce questioned the need for the standardized six-symbol manufacturer's code. Zhongce stated that they currently use five symbols for the optional code and questioned the need to add an additional character in existing molds.

After the comment period closed, GTR No. 15 related to passenger car tires was adopted. A TIN is included in GTR No. 15. The TIN format in the GTR is nearly identical to the July 2014 NPRM, with one notable exception. Both the GTR and the NPRM include a three-symbol plant code and a four-symbol date code. However, the GTR has an eight-symbol manufacturer code, whereas the NPRM included a six-symbol manufacturer code. Thus, the total TIN length in the GTR is 15 symbols, instead of the 13 symbols in the NPRM.

We are not making any changes to the proposal related to these comments. Although the GTR was not mentioned in the NPRM, we were aware of the discrepancy between the then-draft GTR and the NPRM at the time of the NPRM, but chose to propose a shorter manufacturer code to minimize the cost transitioning to the new TIN format. Although an 8-symbol manufacturer code is included in the adopted GTR, we believe that a 6-symbol manufacturer code will reduce the costs of standardizing the length of the TIN. No tires currently sold have a TIN longer than 12 symbols. If we were to adopt a 15 symbol TIN, manufacturers would need to allocate space on the tire for at least three extra symbols (and possibly more). Based on the comments received from tire manufacturers regarding the expense of adding of at least one symbol to the TIN, we believe that the costs of adding at least three symbols to the TIN would be much higher. Therefore, we are not modifying the TIN length to expand the manufacturer code to eight symbols.³

³ RMA notes the inconsistency between the GTR and the NPRM and suggests that NHTSA propose to amend the GTR to be consistent with our final rule. This suggestion is beyond the scope of this rulemaking; however, we plan to request that the GTR be amended to harmonize with this final rule.

Moreover, we cannot agree with Zhongce's suggestion to allow the use of shorter manufacturer codes, thereby making the length of the TIN nonstandard. Making all TINs using a three-symbol plant code 13 symbols long is necessary to ensure the identification of the manufacturer with the TIN. Existing TINs are up to 12 symbols long, but use two-symbol plant codes. If we allow manufacturers with three-symbol plant codes to use TINs that are 12 symbols or shorter, we will have no way of knowing whether the TIN uses a two-symbol or three-symbol plant code. Without knowing that, the manufacturer of the tire cannot be ascertained from the TIN. Thus, it is necessary for NHTSA to specify a 13-symbol TIN to accompany the three-symbol plant code.

V. Lead Time

In the July 2014 NPRM, we recognized that, for existing manufacturers currently using two-symbol plant codes, immediately requiring the use of a three-symbol plant code and standardized TIN length would impose additional costs with little benefit. The NPRM therefore proposed to make the use of the three-symbol plant code and standardized TIN length optional for existing manufacturers with two-symbol plant codes, beginning immediately upon issuance of a final rule implementing the proposal. NHTSA proposed that mandatory compliance with the use of the three-symbol plant code and 13-symbol TIN would be required beginning not sooner than five years after publication of a final rule implementing the proposal. NHTSA believed that five years would be sufficient lead time before manufacturers would be required to use a three-symbol plant code and 13-symbol TIN.

Several commenters objected to requiring existing manufacturers to use a three-symbol plant code on the basis of cost and inconvenience. JATMA and Korea asserted that existing plants should not be required to adopt three-symbol plant codes because of their concern about the cost and time needed to upgrade existing molds and because they did not believe that there was sufficient space between the certification symbol and a “1” that was inserted before the plant code in an existing mold. Thailand asserted that products produced using a two-symbol plant code should be allowed to continue to be produced using a two-symbol code because increasing the number of symbols would affect cost without improvement in quality. Specialty requested that limited production tires be excluded from any requirement to use a three-symbol plant code because of the cost of modifying those molds.

RMA requested that NHTSA provide additional lead time and further requested that the comment period by extended for RMA to provide additional information on how much lead time they believed would be necessary to minimize costs to the industry. RMA stated that requiring existing plants to convert to 13-symbol TINs imposed substantial burdens on manufacturers not using all of the currently optional portions of the TIN. RMA also stated that the agency was incorrect to assume that the average life of a mold is five years.

RMA suggested that, because NHTSA would soon exhaust the supply of two-symbol codes, NHTSA should go forward with the three-symbol manufacturer identifier and the standardized-length TIN, but consider a longer implementation period. In its comments, RMA and the Tire and Rubber Association of Canada suggested that a 10-year lead time is more appropriate. JATMA and Korea also asserted that a longer lead time was appropriate.

Because of the immediate need for three-symbol plant codes, NHTSA must go forward with a rule allowing the use of three-symbol plant codes. Moreover, to ensure that plant codes for new tires are recognizable, we are moving forward with a requirement that manufacturers who use a three-symbol plant codes use the 13-symbol TIN. NHTSA continues to believe that eventual standardization of TIN length is valuable for ensuring quick identification of the tire manufacturer, for the reasons discussed above. However, in light of the comments received, we are extending the lead time from five years to 10 years for existing plants to adopt the three-symbol plant code and standardized 13-symbol TIN.

NHTSA's proposed five-year lead time was based upon the assumption that the average life of a tire mold is five years. Past rulemakings related to tire labeling have offered five years of lead time or less.⁴ Moreover, our assumption was partially based upon RMA's comments on the adoption of FMVSS No. 139 and an NPRM proposing upgrades to truck tire requirements.⁵ However, the issues identified by the commenters suggest that the assumptions underlying NHTSA's assertion that manufacturers could replace or modify existing molds to use 13-symbol TINs with minimal costs may be outdated or incorrect.

⁴ See 64 FR 36807 (Jul. 8, 1999) (four digit date code); 63 FR 28912 (May 27, 1998) (metric labeling on truck tires).

⁵ See 67 FR 69600, 69608 (Nov. 18, 2002) (RMA comment that mold life expectancy is up to five years); Docket No. NHTSA-2010-0132-0018, at 4 (comments of RMA on truck tire NPRM stating that the average mold life for radial truck and bus tires is five years).

Therefore, NHTSA has extended the lead time from the five years proposed in the NPRM to 10 years, as suggested by the commenters. We believe that this change, as well as others discussed below, will minimize the impact of this final rule on existing plants.

To estimate the total cost of a 10-year lead time, we have used RMA's estimate that 20,504 molds would need to be modified at an average cost per mold of $957 (valued in 2014 dollars).⁶ We believe that RMA members represent approximately 62 percent of new tire production for the U.S. market and non-RMA members represent approximately 38 percent of new tire production for the U.S. market.⁷ We have assumed that the 20,504 molds that RMA members are required to modify represent 62 percent of the total molds that will need to be modified as a result of this rule, and that non-RMA members will need to modify 12,612 molds in order to comply with this final rule. Thus, we believe that 33,116 molds will need to be modified at a total cost of approximately $31.7 million.

⁶ We believe that $957 per mold represents a high estimate of the cost of modifying a mold. Some molds may be modified simply by inserting new screw-in plates or a similarly uncomplicated process at substantially less than $957 per mold. However, in order to provide a conservative cost estimate, we will assume the cost per mold estimated by RMA.

⁷ See Factbook 2014—Summary ed., Rubber Manufacturers Association.

Although only some molds will need to be modified to comply with this final rule, we expect that the costs of this rule will be spread out over all tires sold, not just tires manufactured in the molds that must be modified. Based on the data provided by RMA in its comments regarding the rates at which molds will be retired over a 5-10 year period, we have used a linear regression to estimate that nearly all molds currently in use today will be retired within 13 years. Given an annual average tire production of approximately 300 million, we believe that approximately 3.6 billion new tires will be produced for the U.S. market during this 13-year period. We expect that the $31.7 million cost of modifying molds could be spread out over all tires produced in this 13-year period.⁸ Thus, the average cost increase of a tire as a result of this rule over the next 13 years is expected to be less than one cent ($0.009).⁹

⁸ We believe the costs can be spread out over such a long period, in part, because there is no gradual phase-in for existing plants. That is, all molds that need to be modified will not need to be modified until 2025. The only molds we expect to be modified during the first half of the 10-year lead time would be molds that are moved from one plant to another. Those molds would already require some modification under the current requirements and we would reasonably expect that the additional modifications to those molds as a result of this rule could be done at a relatively low cost.

⁹ We have not considered retreaders in this analysis because we believe that the process by which retreaders label the TIN on a tire does not require modification of molds. We expect the cost of any modifications that retreaders may be required to make as a result of this final rule to be negligible.

VI. Changes to Figures 1 and 2

The July 2014 NPRM proposed minor changes to Figures 1 and 2 of 49 CFR 574.5. For example, the new proposed Figures 1 and 2 included a requirement for a 50 mm blank space following the date code. We received comments from JATMA, RMA, Zhongce, Thailand, the Tire and Rubber Association of Canada, and Korea objecting to this requirement. RMA and the Tire and Rubber Association of Canada also stated that some Canadian tire manufacturers use the 50 mm space following the TIN to display Canada's National Safety Mark, and argued that this proposed requirement represented a barrier to trade that was not justified by safety. RMA noted that this change was not discussed in the preamble to the NPRM. Zhongce and Thailand also argued that the 50 mm blank space requirement may unnecessarily cause difficulties in tire design. Korea suggested that a 20 mm space requirement may be more appropriate.

In light of the potential inconsistency between the proposed specification in Note 3 of Figure 1 that that there be a blank space of at least 50 mm (2 inches) after the date code and Canadian tire marking requirements, we have not included this specification in this final rule. Although we were concerned about the potential for confusing the date code with other information, we did not discuss this matter in the preamble of the NPRM and did not intend to propose it. Moreover, we have no data to suggest that any benefit to the public as a result of this change would be justified by the creation of a potential inconsistency with the Canadian tire labeling requirements.

Separately, RMA suggested that NHTSA remove the 6 mm space requirement between the DOT symbol and the beginning of the TIN. RMA also requested that NHTSA reduce the minimum height requirement for the TIN to 4 mm for all tires rather than only for tires with smaller sidewall areas. RMA stated that these changes would give manufacturers additional flexibility to modify existing molds to include a three-symbol plant code.

We are not adopting these suggestions in this final rule. We believe that the specified minimum space after the DOT symbol ensures that the TIN is distinguished from the certification symbol. Moreover, we believe that the 6 mm letter height (which is currently the requirement for all tires, including those with shorter sidewalls) ensures readability and that the exception for smaller letter height should only apply to tires with shorter sidewalls.

In contrast, Tire Rack suggested that the 6 mm minimum letter height size be maintained throughout the TIN, particularly the date code. Our response is that, for the tires for which the 6 mm minimum letter height requirement applies, that requirement applies to both the TIN and the certification symbol.

Tire Rack also suggested that condensed fonts can be difficult to distinguish and included attachments with specific examples. Tire Rack suggested that NHTSA specify the use of bold fonts and prohibit condensed and lightweight fonts. However, having examined the photographs submitted by Tire Rack, we believe that the letters used in condensed fonts can be distinguished and that specifying/prohibiting bold, condensed, or lightweight fonts is not necessary at this time.

Additionally, on the topic of fonts, we inadvertently proposed to modify Note 1 of Figures 1 and 2 regarding requests for the use of other fonts that are submitted to NHTSA. The proposal would have modified the language to specify that requests are submitted to the “Administrator” rather than the “Administration.” Historically, NHTSA has considered the use of other fonts to be a matter of legal interpretation decided by the Chief Counsel. It was not our intent in the NPRM to reserve this authority to the Administrator. In this final rule, we are specifying that a petition to use an alternate font is submitted to NHTSA.

RMA requested that NHTSA should continue to permit the use of print types that have previously been approved. Nothing in this rulemaking affects previously approved print types, although we have not attempted to list those types in this regulation.

Zhongce suggested that NHTSA remove the specification for font type, or alternatively standardize the height-width ratio of the font. Zhongce argued that the specified fonts are not pleasant looking and manufacturers will want to use other fonts. We have not made any change in response to these comments. The specified fonts (and others approved by NHTSA) were chosen or approved for the ease of distinguishing characters, and the specification of font type has not, to our knowledge, had any effect on tire customers' purchasing decisions. Moreover, although the regulation does not specify the height-width ratio, we believe that the specification of fonts inherently specifies a height-width ratio for the characters. That is, if a manufacturer varies the height-width ratio for a particular font, it may not be using the specified font.

Regarding the allowable fonts, we have discovered that the list of allowable fonts in Figures 1 and 2 has been inadvertently modified to specify that “Future Bold, Modified Condensed” or “Gothic” are the only two allowable fonts. However, the original font specification allowed four fonts: Futura Bold, Futura Modified, Futura Condensed, and Gothic. We have changed the location of the quotation marks and added commas to make clear in Figures 1 and 2 that there are four allowable fonts, not two.

Kojin Kitao requested three clarifications regarding Figures 1 and 2: (1) Whether the DOT symbol and the TIN, or the TIN alone, must be in the specified fonts; (2) whether the entire TIN can be laser etched on a tire as in the proposed Figures 1 and 2, or whether only the date code may be laser etched as specified in § 574.5(d)(1); and (3) clarification on the location of the certification symbol and TIN on certain tires where it appeared that proposed Figure 1 had duplicate language. First, although the proposal stated that both the certification symbol and the TIN must be in the specified fonts, the version of Figures 1 and 2 in this final rule applies the font requirement solely to the TIN. We did not discuss this change in the preamble and did not intend the font requirement to apply to the certification symbol. Second, we intended to allow only the date code to be laser etched on a tire as specified in § 574.5(d)(1). We have eliminated contrary language from Figures 1 and 2 suggesting that other information may be laser etched. Third, we recognize that the proposed language in Figures 1 and 2 regarding the location on the tire for the certification symbol and DOT code contains duplicate language, and we have corrected this duplication. These changes are reflected in this final rule.

Tire Rack included two additional suggestions in its comments. First, it requested that NHTSA standardize the location of the certification symbol by allowing it only to the left of the TIN. Tire Rack requested that NHTSA eliminate Option 2 as depicted in Figures 1 and 2, which allows the certification symbol to be located above or below the TIN. Tire Rack observed that it had not seen any tires using Option 2 and believes that its use in the future could only cause confusion. Second, Tire Rack suggested that the branding of TINs on tires should be limited to smooth locations on the sidewall and be prohibited from being branded over multiple background surfaces.

We have not adopted these suggested changes. It was not our intent in this rulemaking to make substantive changes to the labeling of the TIN on the tire, other than to accommodate a longer plant code and TIN, and we consider these comments to be outside of the scope of this rulemaking. Moreover, we are concerned that these changes would eliminate flexibility for manufacturers without necessarily improving the ability of the TIN to be quickly understood in order to facilitate safety recalls.

Zhongce and GASS also identified errors in the pictures depicted in Figures 1 and 2. Specifically, some of the dimension lines did not line up with the dimensioning arrows. These errors have been corrected in this final rule.

We received suggestions from GASS and Tire Rack to specify required spacing between the three groupings of symbols of the TIN. We have not adopted this suggestion, because we are concerned that it will eliminate a cost-effective option for converting existing tire molds to a 13-symbol TIN. RMA has suggested that the modification of existing molds that are transferred to new plants will not simply involve the insertion of a “1” in front of the TIN. A mandatory minimum space between the groupings could prevent manufacturers from placing symbols between the existing groupings in order to use 13-symbol TINs on existing molds. We do not seek to impose costs unnecessarily; if this is a cheaper approach to achieve a clearly legible 13-symbol TIN, we would want manufacturers to be able to take advantage of it.

VII. Other Suggested Changes and Technical Amendments

NTSB and SRS ¹⁰ commented that the agency should alter the TIN to change the format of the date code. SRS requested that NHTSA use a non-coded date of manufacture. Currently, the last four numbers represent the week and year of manufacture of a tire. The commenters did not specify, however, how NHTSA should require the date of manufacture to be presented on the tire.

¹⁰ SRS also raised other matters in its comments. However, none of those matters are related to this rulemaking.

Given that we did not propose any changes to the date code portion of the TIN, nor did we discuss or request comment on any potential changes to the date code, such a change may be beyond the scope of this rulemaking. Even if it were in scope, however, we do not believe a change to the date code is necessary for consumers to determine when their tires were manufactured. NHTSA's tire consumer Web site, http://www.safercar.gov/tires/index.html, explains in several places how to find and interpret the date code. Furthermore, a person should easily be able to determine the location of the date of manufacture on a tire is located either by querying an internet search engine or by asking a tire dealer.

NTSB and Tire Rack suggested that the use of partial TINs on some tires has not allowed consumers to have necessary information about their tires and requested that full TINs be required on both sides of a tire. This suggestion is beyond the scope of this rulemaking. We did not discuss or propose any changes to the placement of the TIN on one or both sidewalls.

NTSB also suggests that NHTSA enhance the usability of TIN coding by requiring that any coding used by manufacturers be reported to NHTSA and be made public. NTSB particularly notes that the manufacturer, brand name, model, size, and date of manufacture be made available. We are not making the suggested changes. The information referenced by NTSB is already required to be marked on the sidewall of any tire certified to FMVSS requirements. We do not believe that safety would be improved by requiring this information to be additionally included in the TIN itself.

GASS stated that in the first sentence of proposed § 574.5(a)(3) specifying marking requirements for non-pneumatic tires, the agency should specify that, instead of saying the TIN has to be placed “onto one side of” the tire, the agency should specify that it be placed “onto at least one side of” the tire. GASS reasoned that this change would be consistent with requirements for other types of tires. We agree, and we have made this suggested change.

GASS raised other technical issues that we have not adopted. First, GASS suggested that proposed § 574.5(b)(1) and (b)(3) be modified to make explicit references to Figures 1 and 2, as we have done in § 574.5(b)(2). We do not believe this change is necessary. Second, GASS suggested that the list of authorized symbols in § 574.5(f) has the letter “I” instead of the number “1”. This is not correct. The number “1” was used in the NPRM. Third, GASS suggested that the list be modified to make explicit notations of the symbols that are letters and those that are numerals. We do not believe this change is necessary because the context in which the information is presented (alphabetical and numerical order) makes clear which symbols are letters and which are numbers.

RMA stated that in proposed § 574.5(a)(4) regarding the labeling of tires manufactured for mileage-contract purchasers, NHTSA incorrectly converted 0.25 inches into 13 millimeters rather than 6 millimeters. We agree that this conversion was incorrect. We have included the correct metric conversion in this final rule.

Finally, we sought comment on whether it is necessary to make any technical amendment to any of the tire labeling regulations in light of the proposed changes. RMA suggested several other technical amendments that were necessary. First, RMA suggested that NHTSA amend S5.5.1(b) of FMVSS No. 139, which includes language that allows optional codes to be excluded from partial TINs allowed on one sidewall of a tire. However, this final rule does not completely eliminate optional codes. Existing plants with two-symbol plant codes will be allowed to continue to use the old TIN format. Thus, it would be premature to remove the reference to optional codes in FMVSS No. 139.

Second, RMA stated that the Early Warning Reporting (EWR) regulations in 49 CFR 579.26 contain three references that should be corrected. First, the general provisions specify that manufacturers located in the United States may report “the two-character DOT alphanumeric code” identifying the production plant. In addition, paragraphs (a) and (d) contain references to “tire type codes” which, under the new TIN format, would be the manufacturer's code. We agree that 49 CFR 579.26 requires technical corrections for consistency with the changes to part 574, and have included RMA's suggested technical corrections in this final rule.¹¹

¹¹ RMA also provided a list of non-regulatory changes that RMA believes are necessary to accommodate this final rule. RMA included suggested changes to the instructions for EWR reporting, the templates for EWR reporting, and potential changes to the Artemis database system. We will consider whether the changes to the EWR reporting instructions and templates are necessary. We believe that the Artemis database system is presently capable of accommodating three-symbol plant codes.

VIII. Rulemaking Analyses and Notices

A. Executive Order 12866, Executive Order 13563, and DOT Regulatory Policies and Procedures

NHTSA has considered the impact of this rulemaking action under Executive Order 12866, Executive Order 13563, and the Department of Transportation's regulatory policies and procedures. This rulemaking is not considered significant and was not reviewed by the Office of Management and Budget under E.O. 12866, “Regulatory Planning and Review.” The rulemaking action has also been determined not to be significant under the Department's regulatory policies and procedures. The agency has further determined that the impact of this proposal is so minimal as to not warrant the preparation of a full regulatory evaluation.

This final rule will impose costs upon some existing tire manufacturers. New tire manufacturers would be issued three-symbol plant codes immediately and would be required to use the standardized 13-symbol TIN. For these new manufacturers or existing manufacturers opening new plants, this final rule will impose at most negligible costs. Manufacturers constructing new molds for a new plant should be able to comply with the new TIN requirements at no additional cost. For existing plants, new tire manufacturers will be required to modify any molds still in service in 10 years to accommodate a three-symbol plant code and a 13-symbol TIN. As discussed in more detail in section V, above, we expect that, for existing plants, this final rule will result in a one-time cost of approximately $31.7 million to modify molds to accommodate a three-symbol plant code and a 13-symbol TIN. We estimate that this cost could be spread out over all tires produced over a 13-year period, resulting in an increase in cost per tire of less than one cent.

We do not believe that the safety benefits of this final rule can be expressly quantified, but we anticipate that these amendments would benefit the public in two ways. First, without expanding the plant code to three characters, the agency would need either to stop issuing new plant codes or to issue identical codes to multiple manufacturers. Either of these approaches could lead to confusion in the identification of the manufacturer of a tire, particularly those tires that are manufactured for another brand name owner. Second, the standardization of the TIN length eliminates the potential for confusion regarding whether a TIN is a full TIN or a partial TIN, which may assist consumers with identifying whether their tires may be subject to recall and may prevent crash investigators from recording partial TINs rather than full TINs on their reports.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule would not have a significant economic impact on a substantial number of small entities. SBREFA amended the Regulatory Flexibility Act to require Federal agencies to provide a statement of the factual basis for certifying that a rule would not have a significant economic impact on a substantial number of small entities.

NHTSA has considered the effects of this final rule under the Regulatory Flexibility Act. I certify that this final rule will not have a significant economic impact on a substantial number of small entities. This final rule would directly impact manufacturers and retreaders of tires for use on all motor vehicles. Although we believe many manufacturers affected by this final rule are considered small businesses, we do not believe this final rule will have a significant economic impact on those manufacturers. We expect that many changes that need to be made by manufacturers as a result of this final rule be done during the normal mold replacement cycle at no additional cost to manufacturers. The new tire manufacturers that would bear the costs of this rule as discussed in section V, above, are not small businesses. Although some retreaders are likely small businesses, we believe that they can make the modifications required by this final rule without incurring significant costs. The process by which retreaders label tires with TINs is different than for new tire manufacturers. Retreaders do not label TINs on tires using tire molds; rather, they use smaller, less expensive means for labeling tires. We do not believe that this final rule would cause retreaders to modify molds, and we believe that any modifications to TIN labeling methods necessary to comply with this rule could be made at minimal cost.

C. Executive Order 13132 (Federalism)

NHTSA has examined today's final rule pursuant to Executive Order 13132 (64 FR 43255, August 10, 1999) and concluded that no additional consultation with States, local governments or their representatives is mandated beyond the rulemaking process. The agency has concluded that the rulemaking would not have sufficient federalism implications to warrant consultation with State and local officials or the preparation of a federalism summary impact statement. The final rule would not have “substantial direct effects on the States, on the relationship between the national government and the States, or on the distribution of power and responsibilities among the various levels of government.” The agency expects that general principles of preemption law would operate so as to displace any conflicting State law or regulations.

D. Executive Order 12988 (Civil Justice Reform)

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) specifies whether administrative proceedings are to be required before parties file suit in court; (6) adequately defines key terms; and (7) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceedings before they may file suit in court.

E. Paperwork Reduction Act

Under the Paperwork Reduction Act of 1995 (PRA), a person is not required to respond to a collection of information by a Federal agency unless the collection displays a valid OMB control number. There is no information collection requirement associated with this final rule.

F. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. Voluntary consensus standards are technical standards developed or adopted by voluntary consensus standards bodies. Technical standards are defined by the NTTAA as “performance-based or design-specific technical specification and related management systems practices.” They pertain to “products and processes, such as size, strength, or technical performance of a product, process or material.”

Examples of organizations generally regarded as voluntary consensus standards bodies include ASTM International, the Society of Automotive Engineers (SAE), and the American National Standards Institute (ANSI). If NHTSA does not use available and potentially applicable voluntary consensus standards, we are required by the Act to provide Congress, through OMB, an explanation of the reasons for not using such standards.

There are no voluntary consensus standards developed by voluntary consensus standards bodies pertaining to this final rule.

G. Unfunded Mandates Reform Act

Section 202 of the Unfunded Mandates Reform Act of 1995 (UMRA) requires federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule. The provisions of section 205 do not apply when they are inconsistent with applicable law. Moreover, section 205 allows the agency to adopt an alternative other than the least costly, most cost-effective, or least burdensome alternative if the agency publishes with the final rule an explanation of why that alternative was not adopted.

This final rule will not result in any expenditure by State, local, or tribal governments or the private sector of more than $100 million, adjusted for inflation.

H. National Environmental Policy Act

NHTSA has analyzed this rulemaking action for the purposes of the National Environmental Policy Act. The agency has determined that implementation of this action would not have any significant impact on the quality of the human environment.

I. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

J. Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects

49 CFR Part 574

Imports, Motor vehicle safety, Reporting and recordkeeping requirements, Tires.

49 CFR Part 579

Motor vehicle safety, Reporting and recordkeeping requirements, Tires.

In consideration of the foregoing, NHTSA amends 49 CFR parts 574 and 579 as follows:

PART 574—TIRE IDENTIFICATION AND RECORDKEEPING

1. Revise the authority citation for part 574 to read as follows:

Authority: 49 U.S.C. 322, 30111, 30115, 30117, and 30166; delegation of authority at 49 CFR 1.95.

2. Revise §§ 574.5 and 574.6 to read as follows:

§ 574.5 Tire identification requirements.

(a) Tire identification number (TIN) labeling requirement—(1) New tires. Each new tire manufacturer must conspicuously label on one sidewall of each tire it manufactures, except non-pneumatic tires or non-pneumatic tire assemblies, by permanently molding into or onto the sidewall, in the manner and location specified in Figure 1, a TIN consisting of 13 symbols and containing the information set forth in paragraphs (b)(1) through (b)(3) of this section. NOTE: The Federal Motor Vehicle Safety Standards may have more specific TIN marking requirements for some tires. See 49 CFR part 571.

(2) Retreaded tires. Each tire retreader must conspicuously label at least one sidewall of each tire it retreads by permanently molding or branding into or onto the sidewall, in the manner and location specified by Figure 2, a TIN consisting of seven symbols and containing the information set forth in paragraphs (b)(1) and (b)(3) of this section.

(3) Non-pneumatic tires and non-pneumatic tire assemblies. Each manufacturer of a non-pneumatic tire or non-pneumatic tire assembly must permanently mold, stamp, or otherwise permanently mark into or onto at least one side of the non-pneumatic tire or non-pneumatic tire assembly a TIN consisting of 13 symbols and containing the information set forth in paragraphs (b)(1) through (b)(3) of this section.

(4) Tires for mileage-contract purchasers. Manufacturers or retreaders of tires exclusively for mileage-contract purchasers may, instead of meeting any other requirements of this section, permanently mold into or onto the tire sidewall in lettering at least 6 mm (0.25 inch) high the phrase “for mileage contract use only”.

(5) Optional phase-out of two-symbol plant code. NHTSA will assign to tire manufacturers who were previously assigned a plant code consisting of two symbols a new three-symbol plant code to replace each two-symbol plant code. A manufacturer may continue to use a previously assigned two-symbol plant code until April 13, 2025. Manufacturers who use a two-symbol plant code must comply with paragraph (g) of this section in lieu of the requirements in paragraph (b) of this section. Retreaders may also optionally comply with paragraph (g) of this section in lieu of paragraph (b) of this section until April 13, 2025.

(b) TIN content requirements—(1) Plant code. The plant code, consisting of three symbols, must be the first group of the TIN. The plant code represents the identity of the new tire manufacturer or retreader. The plant code is assigned to the manufacturer or retreader by NHTSA upon request. See § 574.6.

(2) Manufacturer's code. The manufacturer's code, consisting of six symbols, is the second group of the TIN for all new tires, but it cannot be used for retreaded tires. The manufacturer's code must be located between the plant code and the date code as shown in Figure 1. For new tires, the manufacturer's code may be used as a descriptive code for the purpose of identifying significant characteristics of the tire or to identify the brand name owner. For a new non-pneumatic tire or a non-pneumatic tire assembly, the manufacturer's code must identify the non-pneumatic tire identification code. Each manufacturer must maintain a detailed record of each manufacturer's code it uses with the corresponding tire size, tire characteristic, brand name owner, and non-pneumatic tire identification code as applicable and their respective meanings, which it must provide to NHTSA upon request.

(3) Date code. The date code, consisting of four numerical symbols, is the final group. The date code must identify the week and year of manufacture. The first and second symbols of the date code must identify the week of the year by using “01” for the first full calendar week in each year, “02” for the second full calendar week, and so on. The calendar week runs from Sunday through the following Saturday. The final week of each year may include no more than six days of the following year. The third and fourth symbols of the date code must identify the last two digits of the year of manufacture. For example, 0109 means the tire was manufactured in the first full calendar week of 2009, or the week beginning on Sunday, January 4, 2009, and ending on Saturday, January 10, 2009. The date code must be positioned as shown in Figures 1 or 2 for new tires and retreaded tires, respectively.

(c) Retreaded tire mark. The symbol “R” must be used to identify retreaded tires, and must be marked at the time of TIN marking in a location specified in Figure 2. The “R” is not part of the TIN.

(d) Method of marking. (1) At the option of the manufacturer or retreader, the information contained in paragraph (b)(3) of this section may, instead of being permanently molded, be laser etched into or onto the sidewall in the location specified in Figures 1 or 2, respectively, during the manufacturing process of the tire and not later than 24 hours after the tire is removed from the mold.

(2) The labeling for a non-pneumatic tire or a non-pneumatic tire assembly must be in the manner specified in Figure 1 and positioned on the non-pneumatic tire or non-pneumatic tire assembly such that it is not placed on the tread or the outermost edge of the tire and is not obstructed by any portion of the non-pneumatic rim or wheel center member designated for use with that non-pneumatic tire in S4.4 of Standard No. 129 (49 CFR 571.129).

(e) The DOT symbol. (1) The DOT symbol constitutes a certification that the marked tire conforms to an applicable Federal Motor Vehicle Safety Standard.

(2) If required, a manufacturer or retreader must place the DOT symbol as shown and positioned relative to the TIN in Figure 1 for new tires and as shown in Figure 2 for retreaded tires.

(3) The DOT symbol must not appear on tires to which no Federal Motor Vehicle Safety Standard is applicable, except that retreaders of tires for use on motor vehicles other than passenger cars may, prior to retreading, remove the DOT symbol from the sidewall or allow it to remain on the sidewall, at the retreader's option.

(f) Authorized symbols. The only symbols that manufacturers and retreaders are allowed to use in the tire identification number are: A, B, C, D, E, F, H, J, K, L, M, N, P, R, T, U, V, W, X, Y, 1, 2, 3, 4, 5, 6, 7, 8, 9, and 0.

(g) Old TIN content requirement. The following requirements are applicable to tire manufacturers who were previously assigned two-symbol plant codes by NHTSA and to retreaders. A new tire manufacturer who continues to use a previously assigned two-symbol plant code in place of a new three-symbol plant code and a retreader may optionally comply with this paragraph instead of paragraph (b) of this section until April 13, 2025.

(1) First grouping. The plant code, consisting of two symbols, must be the first group of the TIN. The plant code represents the identity of the new tire manufacturer and was previously assigned to the manufacturer by NHTSA.

(2) Second grouping. For new tires, the second group, consisting of no more than two symbols, must be used to identify the tire size. For a non-pneumatic tire or non-pneumatic tire assembly, the second group, consisting of no more than two symbols, must be used to identify the non-pneumatic tire identification code. For retreaded tires, the second group, consisting of no more than two symbols, must identify the retread matrix in which the tire was processed or a tire size code if a matrix was not used to process the retreaded tire. Each new tire manufacturer and retreader must maintain a record of each symbol used, with the corresponding matrix or tire size, which it must provide to NHTSA upon request.

(3) Third grouping. The third group, consisting of no more than four symbols, may be used at the option of the manufacturer or retreader as a descriptive code for the purpose of identifying significant characteristics of the tire. However, if the tire is manufactured for a brand name owner, one of the functions of the third grouping must be to identify the brand name owner. Each manufacturer or retreader who uses the third grouping must maintain a detailed record of any descriptive brand name owner code used, which it must provide to NHTSA upon request.

(4) Fourth grouping. The date code, consisting of four numerical symbols, is the final group. The date code must identify the week and year of manufacture. The first and second symbols of the date code must identify the week of the year by using “01” for the first full calendar week in each year, “02” for the second full calendar week, and so on. The calendar week runs from Sunday through the following Saturday. The final week of each year may include no more than six days of the following year. The third and fourth symbols of the date code must identify the last two digits of the year of manufacture. For example, 0109 means the tire was manufactured in the first full calendar week of 2009, or the week beginning on Sunday, January 4, 2009, and ending on Saturday, January 10, 2009. The date code must be positioned as shown in Figures 1 or 2 for new tires and retreaded tires, respectively.

§ 574.6 How to obtain a plant code.

To obtain a plant code required by § 574.5(b)(1), each manufacturer of new or retreaded pneumatic tires, non-pneumatic tires, or non-pneumatic tire assemblies must apply in writing to the Office of Vehicle Safety Compliance, National Highway Traffic Safety Administration, 1200 New Jersey Ave. SW., Washington, DC 20590, identify itself as a tire manufacturer or retreader, and furnish the following information:

(a) The name, or other designation identifying the applicant, and its main office address;

(b) The name, or other identifying designation, of each individual plant operated by the manufacturer and the address of each plant, if applicable;

(c) The name, or other identifying designation, of the corporate owner, if applicable, of each plant;

(d) The email addresses, phone numbers, and fax numbers for each person or corporation listed, including the main office; and

(e) The type of tires manufactured at each plant, e.g., pneumatic tires for passenger cars, buses, trucks, or motorcycles; pneumatic retreaded tires; or non-pneumatic tires or non-pneumatic tire assemblies.

Note to § 574,6: Additional requirements for new tire manufacturers may be applicable. See 49 CFR parts 551 and 566.

PART 579—REPORTING OF INFORMATION AND COMMUNICATIONS ABOUT POTENTIAL DEFECTS

3. The authority citation for part 579 continues to read as follows:

Authority: 49 U.S.C. 30102-103, 30112, 30117-121, 30166-167; delegation of authority at 49 CFR 1.95 and 49 CFR 501.8.

4. Amend § 579.26 by:

a. Revising the fifth sentence of the introductory text;

b. Revising the first sentence of paragraph (a); and

c. Revising the second sentence of paragraph (d).

The revisions read as follows:

§ 579.26 Reporting requirements for manufacturers of tires.

* * * For purposes of this section, the two- or three-character DOT alphanumeric code for production plants located in the United States assigned by NHTSA in accordance with §§ 574.5 and 574.6 of this chapter may be used to identify “plant where manufactured.” * * *

(a) Production information. Information that states the manufacturer's name, the quarterly reporting period, the tire line, the tire size, the tire type code or manufacturer's code, the SKU, the plant where manufactured, whether the tire is approved for use as original equipment on a motor vehicle, if so, the make, model, and model year of each vehicle for which it is approved, the production year, the cumulative warranty production, and the cumulative total production through the end of the reporting period. * * *

* * * * *

(d) Common green tire reporting. * * * For each specific common green tire grouping, the list shall provide all relevant tire lines, tire type codes or manufacturer's code, SKU numbers, brand names, and brand name owners.

Issued on April 3, 2015 in Washington, DC, under authority delegated in 49 CFR 1.95 and 501.5.
Mark R. Rosekind,
Administrator.

[FR Doc. 2015-08418 Filed 4-10-15; 8:45 am]

BILLING CODE 4910-59-P